DEPARTMENT OF THE INTERIOR

National Park Service

[NPS-WASO-CONC-30207; PPWOBSADC0, PPMVSCS1Y.Y00000]

Notice of Intent To Award 16 Temporary Concession Contracts for Guided Interpretive Colorado River Trips Within Grand Canyon National Park

AGENCY: National Park Service, Interior.

ACTION: Public Notice.

SUMMARY: The National Park Service hereby gives public notice that it intends to award 16 temporary outfitter and guide concession contracts to qualified persons for the conduct of Guided Interpretive Colorado River Trips within Grand Canyon National Park for a term not to exceed three years.

DATES: The National Park Service intends for the temporary outfitter and guide concession contracts to commence on January 1, 2021.

FOR FURTHER INFORMATION CONTACT: Jennifer Parker, Chief of Commercial Services, NPS Regional Office Serving Interior regions 6, 7, 8, (303) 969-2661, or by email at jennifer_parker@nps.gov.

SUPPLEMENTARY INFORMATION: The National Park Service intends to award temporary outfitter and guide concession contracts to the concessioners currently operating under the following concession contracts: CC-GRCA006-08, CC-GRCA007-08, CC-GRCA010-08, CC-GRCA011-08, CC-GRCA015-08, CC-GRCA016-08, CC-GRCA017-08, CC-GRCA018-08, CC-GRCA020-08, CC-GRCA021-08, CC-GRCA022-08, CC-GRCA024-08, CC-GRCA025-08, CC-GRCA026-08, CC-GRCA028-08, CC-GRCA029-08. If the National Park Service is unable to reach acceptable terms with a concessioner operating under one of the above-listed contracts, the National Park Service may award the respective temporary outfitter and guide concession contract to a different qualified person. The National Park Service has determined that the issuance of temporary outfitter and guide concession contracts not to exceed three years is necessary to avoid interruption of visitor services and has taken all reasonable and appropriate steps to consider alternatives to avoid an interruption of visitor services in accordance with 36 CFR 51.24.

Authority: 54 U.S.C. 101913(11)(a); 36 CFR 51.24(a).

Lena McDowall,
Deputy Director, Management and Administration.

[FR Doc. 2020-19510 Filed 9-2-20; 8:45 am]

BILLING CODE 4312-53-P